DEPARTMENT OF THE INTERIOR

Bureau of Land Management

[MT-020-1610-DH CBMP]

Notice of Intent To Amend the Powder River and Billings Resource Management Plans (RMPs) and Conduct Scoping Meetings, Montana

AGENCY: Bureau of Land Management, Miles City and Billings Field Offices, Interior.

ACTION: Notice.

SUMMARY: BLM will prepare an Oil and Gas Resource Management Plan (RMP) Amendment and Environmental Impact Statement (EIS) jointly with the State of Montana (State). The planning area for the BLM will be the BLM-administered oil and gas estate within the Powder River and Billings RMP areas. The planning area for the State will be potential coal bed methane development areas around the state. The RMP Amendment will be based on the existing statutory requirements and will meet the requirements of the Federal Land Policy and Management Act (FLPMA) of 1976. The RMP Amendment will guide BLM's oil and gas decisions within the Powder River and Billings RMP areas and help the State evaluate effects of further oil and gas permit applications. The Draft EIS and RMP Amendment is scheduled for completion by September 2001. The Final EIS and Proposed RMP Amendment is scheduled for March 2002.

The public is asked to help BLM and the State identify issues, concerns and alternatives. Draft Planning Criteria to help guide the effort have also been developed for public comment.

DATES: Any issues, concerns, or alternatives should be submitted to BLM on or before January 17, 2001. Public scoping meetings are scheduled as follows:

1. January 4, 2001, 7:00 p.m. to 9:00 p.m., Billings, Montana

2. January 9, 2001, 2:00 p.m. to 4:00 p.m., Broadus, Montana

3. January 9, 2001, 7:00 p.m. to 9:00 p.m., Ashland, Montana

4. January 10, 2001, 7:00 p.m. to 9:00 p.m., Miles City, Montana

5. January 11, 2001, 7:00 p.m. to 9:00 p.m., Helena, Montana

ADDRESSES: All submissions should be sent to the following address: BLM, Mary Bloom, BLM Project Leader, 111 Garryowen Road, Miles City, Montana, 59301.

The public scoping meetings will be held at the following locations:

1. Billings—Lewis and Clark Room in the Student Union Building of the Montana State University-Billings

2. Broadus—Community Center at the Powder River County Fairgrounds

3. Ashland—Multi-purpose Room of the Ashland Public Elementary School on Highway 212

4. Miles City—Room 106 of Miles Community College

5. Helena—Director's Conference Room #111, Metcalf Building, 1520 East Sixth Avenue

FOR FURTHER INFORMATION CONTACT: Mary Bloom, BLM Project Leader, (406) 233-3649.

SUPPLEMENTARY INFORMATION: The BLM and the State of Montana are co-leads for the effort. The BLM's planning area is BLM-administered oil and gas in the Powder River and Billings RMP areas. The Powder River RMP area consists of Treasure, Rosebud, Powder River, Carter, and portions of Custer and Big Horn counties. The Billings RMP area consists of Wheatland, Golden Valley, Musselshell, Sweet Grass, Stillwater, Yellowstone, Carbon, and a portion of Big Horn counties. The State of Montana will evaluate the effects of further permit applications in BLM's planning area and other areas around the state including portions of Blaine, Park and Gallatin counties. BLM and the state have drafted a Memorandum of Understanding to conduct a joint EIS. The joint EIS will analyze impacts to resources as a result of oil and gas, including coal bed methane, development.

The Powder River and Billings RMPs, as amended by BLM's 1994 “Oil and Gas Amendment of the Billings, Powder River and South Dakota RMPs” support limited conventional oil and gas development and coal bed methane exploration and production. Numerous conventional oil and gas wells are located on state and federal minerals in the planning area. An October 18, 2000 meeting of the Coal Bed Methane Coordination Group indicates that industry projects drilling approximately 10,000 coal bed methane wells in the Montana portion of the Powder River Basin over the next 10 years, in addition to an unspecified number of conventional oil and gas wells. In order to analyze an increased interest in oil and gas activity, an EIS and RMP amendment is being prepared.

The public is asked to assist the BLM and the State with identification of issues related to oil and gas development, including coal bed methane. Examples of potential issues (problems, concerns) are: Water (surface and ground), socioeconomics, soils, water, Air, vegetation and wildlife.

Alternatives will be developed to present a range of feasible management actions. The “No Action Alternative” will be included in accordance with 40 CFR 1502.14(d) and represent the continuation of current management.

Development of this RMP Amendment will require involvement of professionals from these disciplines: Air quality, cultural resources, economics, hazardous materials, hydrology, lands, realty, minerals, geology, paleontology, recreation, sociology, soils, vegetation, and wildlife.

Planning criteria help guide the development of the Amendment and EIS by focusing efforts where they are needed, providing direction for the plan, and identifying legal, policy, or regulatory constraints that direct or limit BLM's ability to resolve issues. After taking into consideration the public's comments on the criteria, they will be finalized to help guide the plan.

The public will be provided the opportunity to review and comment on issues identified by BLM and the State, identify new issues, and comment on the Draft Planning Criteria. A mailing list is being developed and will be used to communicate with and solicit comments from local, state and federal agencies, Native American tribes, the Eastern Montana Resource Advisory Council, and the public at large that may be affected by the plan. As the planning process proceeds, these publics will be encouraged to participate.

Public information will be available at scoping meetings to be held at Broadus, Miles City, Ashland, Billings and Helena, Montana from January 4 through January 11, 2001. See DATES and ADDRESSES sections for specific meeting information.

The BLM and the State are seeking information from individuals, organizations, and agencies that may be affected by the plan. Specifically, we request any issues, concerns or alternatives that should be addressed in the plan amendment.

This notice meets the requirements of 40 CFR 1501.7 and 43 CFR 1610.2(c).

Dated: December 5, 2000.
Fred O'Ferrall,
Assistant Field Manager.

[FR Doc. 00-31447 Filed 12-18-00; 8:45 am]

BILLING CODE 4310-$$-U